DEPARTMENT OF ENERGY

Federal Energy Regulatory Commission

[Docket No. AD06-4-000]

Resource Reports 11 and 13 Guidance; Notice of Technical Conference

April 13, 2006.

On Tuesday, May 9, 2006, the staff of the Office of Energy Projects of the Federal Energy Regulatory Commission (FERC or Commission) will convene a technical conference to discuss the engineering and safety information required in applications for liquefied natural gas (LNG) facilities. Filings that are complete expedite staff detailed review to ensure that all areas of the proposed design are safe and reliable. The technical conference will convene at 10 a.m. (EST) at the Federal Energy Regulatory Commission, 888 First Street, NE., Washington, DC 20426, in Conference Room 3M-02.

On December 15, 2005, the Commission issued Draft Guidance for Filing Resource Reports 11 & 13 for LNG Facility Applications to assist applicants by identifying the specific information and level of detail required for filing these resource reports as specified by Title 18 of the Code of Federal Regulations, Sections 380.12 (m) and (o). This document addresses recent initiatives, as well as several requests for specific guidance, including:

• The level of detail, including a requirement for a hazard design review, necessary for the front-end engineering design submitted to the FERC;

• Critical energy infrastructure information (CEII) classification;

• LNG spill containment sizing and design criteria for impoundments, sumps, sub-dikes, troughs or trenches;

• Design spills to be used in the calculation of thermal and flammable vapor exclusion zones;

• Waterway suitability assessments required by the U.S. Coast Guard's Navigation and Inspection Circular 05-05; and

• Compliance with the Energy Policy Act of 2005.

The technical conference will allow the public and the engineering community the opportunity to provide comments on the required information for Resource Report 11: Reliability and Safety, and Resource Report 13: Engineering and Design Material for LNG facility applications. In addition, the conference will solicit comments on our Draft Preferred Submittal Format Guidance for better organizing the engineering information in Resource Report 13. This document is available on the Commission Web site at http://www.ferc.gov/docs-filing/elibrary.asp under Docket No. AD06-4 or by accessing the following link: http://elibrary.ferc.gov:0/idmws/file_list.asp?document_id=4394249. Information related to specific projects before the Commission will not be discussed.

The conference is open to the public. Pre-registration is required and may be submitted either online at http://www.ferc.gov/whats-new/registration/cryo-conf-form.asp or by faxing a copy of the form (found at the referenced online link) to 202-208-0353.

FERC conference and meetings are accessible under section 508 of the Rehabilitation Act of 1973. For accessibility accommodations please send an e-mail to accessibility@ferc.gov or call toll free (866) 20803372 (voice) or 202-502-8659 (TTY), or send a fax to 202-208-2106 with the required accommodations.

For information about this conference, please contact Chris Zerby 202-502-6111, Kareem Monib 202-502-6265, or Ghanshyam Patel 202-502-6431.

Magalie R. Salas,
Secretary.

[FR Doc. E6-6037 Filed 4-21-06; 8:45 am]

BILLING CODE 6717-01-P